DEPARTMENT OF TRANSPORTATION

Federal Aviation Administration

14 CFR Part 39

[Docket No. FAA-2013-0240; Directorate Identifier 2011-SW-060-AD]

RIN 2120-AA64

Airworthiness Directives; Eurocopter France Helicopters

AGENCY: Federal Aviation Administration (FAA), DOT.

ACTION: Notice of proposed rulemaking (NPRM).

SUMMARY: We propose to adopt a new airworthiness directive (AD) for certain Eurocopter France (Eurocopter) Model AS350 and AS355 helicopters. This proposed AD would require inspecting the tail rotor control stop screws to determine if they are correctly aligned and adjusting the screws if they are misaligned. This proposed AD is prompted by the discovery of a loose nut on the tail rotor control stop and a misaligned tail rotor control stop screw. The proposed actions are intended detect a loose nut or a misaligned stop screw, which, if not corrected, could limit yaw authority, and consequently, result in a loss of helicopter control.

DATES: We must receive comments on this proposed AD by May 13, 2013.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examing the AD Docket

You may examine the AD docket on the Internet at http://www.regulations.gov or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

For service information identified in this proposed AD, contact American Eurocopter Corporation, 2701 N. Forum Drive, Grand Prairie, TX 75052; telephone (972) 641-0000 or (800) 232-0323; fax (972) 641-3775; or at http://www.eurocopter.com/techpub. You may review the referenced service information at the FAA, Office of the Regional Counsel, Southwest Region, 2601 Meacham Blvd., Room 663, Fort Worth, Texas 76137.

FOR FURTHER INFORMATION CONTACT: Matt Fuller, Aviation Safety Engineer, Continued Operational Safety, Rotorcraft Directorate, FAA, 2601 Meacham Blvd., Fort Worth, Texas 76137; telephone 817-222-5110; email matthew.fuller@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

The European Aviation Safety Agency (EASA), which is the Technical Agent for the Member States of the European Union, has issued EASA AD No. 2011-0164, dated August 31, 2011, to correct an unsafe condition for Eurocopter Model AS350B, AS350BA, AS350BB, AS350B1, AS350B2, AS350B3, AS350D, AS355E, AS355F, AS355F1, AS355F2, AS355N, and AS355NP helicopters with either an autopilot or certain modifications installed. EASA advises that during take-off with a sling load, the pilot of a Model AS350B3 helicopter reached one of the yaw stops before its usual position. The inspection that followed revealed that a tail rotor control stop nut was loose and that the corresponding tail rotor control stop screw was “out of adjustment.” EASA states that this condition, if not detected and corrected, “can lead to the loss of adjustment of the affected stop and consequently limit yaw authority, possibly resulting in loss of control of the helicopter.”

FAA's Determination

These helicopters have been approved by the aviation authority of France and are approved for operation in the United States. Pursuant to our bilateral agreement with France, EASA, its technical representative, has notified us of the unsafe condition described in its AD. We are proposing this AD because we evaluated all known relevant information and determined that an unsafe condition is likely to exist or develop on other products of the same type design.

Related Service Information

Eurocopter has issued Alert Service Bulletin (ASB) No. AS350-05.00.64 for Model AS350B, BA, BB, B1, B2, B3, and D civil helicopters and Model AS350L1 military helicopters, and ASB No. AS355-05.00.59 for Model AS355E, F, F1, F2, N, and NP civil helicopters, both Revision 0 and both dated August 30, 2011. The ASBs specify inspecting the locking of the stop screws and, if warranted, adjusting the stops, marking the screw/nut assembly with a red line of paint, and periodically inspecting the paint line's alignment on the screw/nut assembly.

Proposed AD Requirements

This proposed AD would require inspecting the locking of the stop screws within 110 hours time-in-service (TIS). If the stop screw turns, the proposed AD would require adjusting the stops. After adjusting the stops or if the screw does not turn, this proposed AD would require marking a line of red paint on the screw-nut assembly.

Thereafter, at intervals not to exceed 110 hours TIS, this proposed AD would require inspecting the locking of the screws and determining whether the red paint line on the screw and nut is aligned. If not aligned, this proposed AD would require removing the paint, readjusting the stops, and marking a new line of paint.

Differences Between This Proposed AD and the EASA AD

The EASA AD would require contacting Eurocopter if the red paint line on the screw/nut assembly is not aligned after an inspection. This proposed AD would not. The EASA AD applies to Eurocopter Model AS350BB helicopters. This proposed AD would not because Model AS350BB does not have an FAA type certificate. However, the proposed AD would apply to Eurocopter Model AS350C and AS350D1 helicopters because they have an FAA type certificate and because they have similar tail rotor stop screw assemblies as the other applicable helicopter models. The EASA AD does not apply to the Model AS350C and AS350D1 helicopters.

Interim Action

We consider this proposed AD to be an interim action because Eurocopter is developing a modification that would address the unsafe condition identified in this AD. After this modification is developed, approved, and available, we might consider additional rulemaking.

Costs of Compliance

We estimate that this proposed AD would affect 911 helicopters of U.S. Registry and that labor costs average $85 per work-hour. Based on these estimates, we expect the following costs:

• Inspecting the locking of the stop screws would take about 0.4 hour for a labor cost of about $34 per helicopter and $30,974 for the U.S. fleet. No parts would be needed.

• Adjusting the stop screws, if needed, would require about 0.2 hour for a labor cost of $17. No parts would be needed.

• Painting the line would require 0.1 hour for a labor cost of about $9 per helicopter and $8,199 for the U.S. fleet. No parts would be needed.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Eurocopter France: Docket No. FAA-2013-0240; Directorate Identifier 2011-SW-060-AD.

(a) Applicability

This AD applies to the following helicopters, certificated in any category:

(1) Model AS350B, AS350BA, AS350B1, AS350B2, AS350C, AS350D, AS350D1, AS355E, AS355F, AS355F1, and AS355F2 helicopters with an autopilot installed;

(2) Model AS350B3 helicopters with an autopilot or modification 073252 installed; and

(3) Model AS355N and AS355NP helicopters with an autopilot or modification 071908 installed.

(b) Unsafe Condition

This AD defines the unsafe condition as a loose nut or misaligned tail rotor control stop screw (stop screw). This condition could result in limited yaw authority and subsequent loss of helicopter control.

(c) Compliance

You are responsible for performing each action required by this AD within the specified compliance time unless it has already been accomplished prior to that time.

(d) Required Actions

(1) Within 110 hours time-in-service (TIS), inspect the locking of the stop screws to determine whether the stop screws turn.

(i) If any stop screw turns, adjust the stop screw.

(ii) Mark a line of red paint on the screw-nut assembly as depicted in Section B-B, Figure 1 of Eurocopter Alert Service Bulletin (ASB) No. AS350-05.00.64 or ASB No. AS355-05.00.59, as applicable to your model helicopter. Both ASBs are Revision 0 and dated August 30, 2011.

(2) Thereafter, at intervals not to exceed 110 hours TIS, inspect the stop screws to determine whether the paint lines on the screw and the nut are aligned. If the red paint lines are not aligned, remove the paint, adjust the stop screw, and mark a new line of paint on the screw-nut assembly as depicted in Section B-B, Figure 1 of the ASB applicable to your helicopter model.

(e) Special Flight Permit

A one-time flight permit may be granted, provided that the pilot has full yaw authority before flight.

(f) Alternative Methods of Compliance (AMOCs)

(1) The Manager, Safety Management Group, FAA, may approve AMOCs for this AD. Send your proposal to: Matt Fuller, Aviation Safety Engineer, Continued Operational Safety, Rotorcraft Directorate, FAA, 2601 Meacham Blvd., Fort Worth, Texas 76137; telephone 817-222-5110; email matthew.fuller@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

The subject of this AD is addressed in the European Aviation Safety Agency AD No. 2011-0164, dated August 31, 2011.

(h) Subject

Joint Aircraft Service Component (JASC) Code: 6720, tail rotor control system.

Issued in Fort Worth, Texas, on March 6, 2013.
Lance T. Gant,
Acting Directorate Manager, Rotorcraft Directorate, Aircraft Certification Service.

[FR Doc. 2013-05876 Filed 3-13-13; 8:45 am]

BILLING CODE 4910-13-P